DEPARTMENT OF THE TREASURY

Internal Revenue Service

26 CFR Part 1

[REG-104385-01]

RIN 1545-AY75

Application of Normalization Accounting Rules to Balances of Excess Deferred Income Taxes and Accumulated Deferred Investment Tax Credits of Public Utilities Whose Assets Cease To Be Public Utility Property; Correction

AGENCY: Internal Revenue Service (IRS), Treasury.

ACTION: Correction to notice of proposed rulemaking and notice of public hearing.

SUMMARY: This document contains corrections to a notice of proposed rulemaking and notice of public hearing that was published in the Federal Register on Wednesday, December 21, 2005 (70 FR 75762). These regulations provide guidance on the normalization requirements applicable to public utilities that benefit (or have benefited) from accelerated depreciation methods or from the investment tax credit permitted under pre-1991 law.

FOR FURTHER INFORMATION CONTACT: David Selig (202) 622-3040 (not toll-free number).

SUPPLEMENTARY INFORMATION:

Background

The notice of proposed rulemaking and notice of public hearing (REG-104385-01) that is the subject of these corrections is under section 168 of the Internal Revenue Code.

Need for Correction

As published, the notice of proposed rulemaking and notice of public hearing (REG-104385-01) contains errors that may prove to be misleading and are in need of clarification.

Correction of Publication

Accordingly, the publication of the notice of proposed rulemaking (REG-104385-01), that was the subject of FR Doc. ES-7583, is corrected as follows:

1. On page 75762, column 2, in the preamble under the paragraph heading FOR FURTHER INFORMATION CONTACT, lines 7 and 8, the language, “hearing, Treena Garrett, at (202) 622-7190 (not toll-free numbers).” is corrected to read “hearing, Richard Hurst, at (202) 622-7180 (not toll-free numbers).”.

2. On page 75763, column 3, in the preamble under the paragraph heading “Proposed Effective Date”, third paragraph, lines 7 thru 9, the language, “public utility property after [DATE OF PUBLICATION OF FINAL RULE IN THE Federal Register]. For public” is corrected to read “public utility property after December 21, 2005. For public”.

3. On page 75764, column 1, in the preamble, first paragraph of the column, lines 2 and 3, the language, “before [DATE OF PUBLICATION OF FINAL RULE IN THE Federal Register.],” is corrected to read “before December 21, 2005,”.

4. On page 75764, column 1, in the preamble, first paragraph of the column, lines 15 thru 19, the language, “under the rate order in effect on [DATE OF PUBLICATION OF FINAL RULE IN THE Federal Register], or [DATE 2 YEARS AFTER PUBLICATION OF FINAL RULE IN THE Federal Register]. is corrected to read “under the rate order in effect on December 21, 2005, or December 21, 2007.”

§ 1.46-6 [Corrected]

5. On page 75765, column 1, § 1.46-6(k)(4)(i), lines 4 thru 6, the language, “public utility property after [DATE OF PUBLICATION OF FINAL RULE IN THE Federal Register.]” is corrected to read “December 21, 2005.”

6. On page 75765, column 1, § 1.46-6(k)(4)(ii), lines 12 thru 16, the language, “rate order in effect on [DATE OF PUBLICATION OF FINAL RULE IN THE Federal Register], or [DATE 2 YEARS AFTER PUBLICATION OF FINAL RULE IN THE Federal Register].” is corrected to read “rate order in effect on December 21, 2005, or December 21, 2007.”.

§ 1.168(i)-(3) [Corrected]

7. On page 75765, column 1, § 1.168(i)-(3)(d)(1), lines 4 thru 6, the language, “public utility property after [DATE OF PUBLICATION OF FINAL RULE IN THE Federal Register].” is corrected to read “public utility property after December 21, 2005.”.

8. On page 75765, column 2, § 1.168(i)-(3)(d)(2), lines 10 thru 14, the language, “rate order in effect on [DATE OF PUBLICATION OF FINAL RULE IN THE Federal Register], or [DATE 2 YEARS AFTER PUBLICATION OF FINAL RULE IN THE Federal Register].” is corrected to read “rate order in effect on December 21, 2005, or December 21, 2007.”.

Guy R. Traynor,
Federal Register Liaison, Publications and Regulations Branch, Legal Processing Division, Associate Chief Counsel, (Procedure and Administration).

[FR Doc. 05-24482 Filed 12-21-05; 2:14 pm]

BILLING CODE 4830-01-P